DEPARTMENT OF THE INTERIOR

Fish and Wildlife Service

50 CFR Part 17

Endangered and Threatened Wildlife and Plants; 90-Day Finding for a Petition To Add Botrychium lineare (Slender Moonwort) to the List of Threatened and Endangered Species

AGENCY: Fish and Wildlife Service, Interior.

ACTION: Notice of 90-day petition finding and initiation of status review.

SUMMARY: We, the U.S. Fish and Wildlife Service (Service), announce a 90-day finding for a petition to amend the List of Endangered and Threatened Wildlife and Plants. We find that the petitioner has presented substantial information indicating that listing Botrychium lineare (slender moonwort) may be warranted. With the publication of this notice, we are initiating a status review and will prepare a 12-month finding.

DATES: The finding announced in this document was made on April 12, 2000. To be considered in the 12-month finding for this petition, comments and information should be submitted to us by July 10, 2000.

ADDRESSES: Data, comments, information, or questions concerning this petition should be submitted to the Supervisor, U.S. Fish and Wildlife Service, Snake River Basin Office, 1387 S. Vinnell Way, Room 368, Boise, Idaho 83709. The petition finding, supporting data, and comments are available for public inspection, by appointment, during normal business hours at the above address.

FOR FURTHER INFORMATION CONTACT: Robert Ruesink, Supervisor (see ADDRESSES section) (telephone 208/378-5243; facsimile 208/378-5262).

SUPPLEMENTARY INFORMATION:

Background

Section 4(b)(3)(A) of the Endangered Species Act (Act) of 1973, as amended (16 U.S.C. 1531 et seq.), requires that we make a finding on whether a petition to list, delist, or reclassify a species presents substantial scientific or commercial information to demonstrate that the petitioned action may be warranted. To the maximum extent practicable, this finding is to be made within 90 days of the receipt of the petition, and we are to publish the finding promptly in the Federal Register. If the finding is that substantial information was presented, we are also required to promptly commence a review of the status of the involved species and to disclose its findings within 12 months (12-month finding).

The processing of this petition conforms with our Listing Priority Guidance published in the Federal Register on October 22, 1999 (64 FR 57114). The guidance clarifies the order in which we will process rulemakings. Highest priority is processing emergency listing rules for any species determined to face a significant and imminent risk to its well-being (Priority 1). Second priority (Priority 2) is processing final determinations on proposed additions to the lists of endangered and threatened wildlife and plants. Third priority is processing new proposals to add species to the lists. The processing of administrative petition findings (petitions filed under section 4 of the Act) is the fourth priority. The processing of this 90-day petition finding is a Priority 4 action and is being completed in accordance with the current Listing Priority Guidance.

On July 28, 1999, we received a petition dated July 26, 1999, from the Biodiversity Legal Foundation. The petitioner requested that we list Botrychium lineare (slender moonwort) as endangered or threatened and designate critical habitat within a reasonable period of time following the listing. The petitioner submitted biological, distributional, historical, and other information and scientific references in support of the petition.

Botrychium lineare is a small perennial fern with a pale green leaf (trophophore) from 6 to 18 centimeters (2 to 7 inches) long. Leaf segments are typically linear and divided or forked at the ends. The sporophore (spore-bearing structure) is 1 to 2 times the length of the trophophore with a single main axis. Spores mature primarily in late June and July. This species was initially described in 1994 and is considered to be one of the more distinctive moonworts (Wagner and Wagner 1994). The habitat for B. lineare has been described as “deep grass and forbs of meadows, under trees in woods, and on shelves on limestone cliffs, mainly at higher elevations” (Wagner and Wagner 1994). However, a specific habitat description for the species is problematic because of its formerly widespread distribution ranging from sea level in Quebec to nearly 3,000 meters (m) (9,840 feet (ft)) in Boulder County, Colorado. The habitat at currently occupied sites in Oregon and Colorado consists of montane meadows with associated species including snowberry (Symphoricarpos spp.), huckleberry (Vaccinium spp.), reedgrass (Calamagrostis spp.) and other grasses, Engelmann spruce (Picea engelmannii), lodgepole pine (Pinus contorta), aspen (Populus tremuloides), and aspen dairy (Erigeron spp.) (Wagner and Wagner 1994; Peter Root, private contractor, pers. comm. 1999).

In the United States, Botrychium lineare has been documented from Idaho (Boundary County), Oregon (Wallowa County), Montana (Lake County), Colorado (Boulder and El Paso Counties), and California (Inyo County, although this report may be incorrect; the species may actually occur in Fresno County (Tim Thomas, Service, pers. comm. 1999)). In Canada, B. lineare was previously documented from two provinces, Quebec and New Brunswick (Wagner and Wagner 1994).

The petitioner stated that only three populations of Botrychium lineare are currently known to exist (two in Oregon and one in Colorado) and that the populations previously known from Idaho, Montana, California, Colorado (Boulder County), and Canada are thought to be extirpated. Plants at some of these sites have not been seen since the early 1900s (Wagner and Wagner 1994). Further investigation has identified two additional sites (one in Colorado (Root 1999) and one in Montana (Zika, pers. comm. 1999)) that support B. lineare. Of the two existing sites in northeastern Oregon, one occurs in the Hurricane Creek drainage in the Eagle Cap Wilderness (Wallowa-Whitman National Forest) and the other is found on a private inholding known as Lapover Ranch in the Lostine River drainage (Oregon Natural Heritage Program 1999; Zika et al. 1995). Elevation for the Oregon sites is approximately 1,600 meters (m) (5,300 feet (ft)). Two other sites are located along the Pikes Peak toll road at 2,700 m (9,000 ft) and 2,650 m (8,700 ft) in El Paso County, Colorado. The fifth site is located in Glacier National Park in Montana at an elevation of about 1,500 m (4,800 ft).

The remaining populations of Botrychium lineare are extremely small, ranging in size from 2 to 53 individuals (Oregon Natural Heritage Program 1999; Carpenter 1996b). When last observed in 1993, the Lapover Ranch site had 14 individuals, and the Hurricane Creek site had 4 plants (Oregon Natural Heritage Program 1999). The higher elevation Pikes Peak site is the largest with 53 plants (Carpenter 1996b); the lower elevation Pikes Peak site (the newly discovered site) has only 2 plants (Root 1999). The recently discovered Glacier National Park site consists of about 10 plants, but more plants may be found in nearby meadows (Peter Zika, pers. comm. 1999).

Threats to this species include habitat succession as a result of fire suppression, livestock grazing, exotic species, development, timber harvest, roads, and recreation (Paula Brooks, pers. comm. 2000; Peter Zika, pers. comm. 1999; Oregon Natural Heritage Program 1999; Zika et al. 1995; Wagner and Wagner 1994). The petition also stated that mining is a threat to Botrychium lineare, but currently no mining activities appear to be threatening this species (Paula Brooks, pers. comm. 2000). The petitioner contends that habitat succession and fire suppression threaten B. lineare habitat on the Wallowa-Whitman National Forest. However, our understanding of the relationship of habitat succession and fire suppression to the persistence of B. lineare is unclear. For example, in a biological assessment for sensitive plants in the Lostine River canyon, a U.S. Forest Service botanist notes that “Botrychium species seem to be found in areas that receive natural disturbances such as fire and landslides, but we are not yet able to predict what disturbance interval or successional stage best suits them” (Hustafa 1999). Although the petitioner states that the lack of implementation of a controlled burning program in Lostine Canyon is a threat to B. lineare, this program (if implemented) would affect only Federal lands (Paula Brooks, Wallowa-Whitman National Forest, in litt., 1999), and the species does not occur on Federal lands in this canyon.

Although the current threats to the species may not be fully understood, habitat occupied by Botrychium lineare in Oregon is extremely restricted. The Lostine site occupies an area of approximately 10 by 10 m (30 by 30 ft) (Wagner and Wagner 1994), and the Hurricane Creek site is found in an area up to 1 hectare (2.5 acres) in size (Oregon Natural Heritage Program 1999). Since the Hurricane Creek B. lineare site is adjacent to a popular hiking and pack trail, the site may be affected by recreational impacts such as trampling or campfires (Oregon Natural Heritage Program 1999). The population that is found on the Lapover Ranch is threatened by grazing, trampling, and possible development (Zika pers. comm. 1999).

The largest known Botrychium lineare site (based on number of individuals) at Pikes Peak is approximately 35 by 10 m (115 by 30 ft) in size and is located 100 m (330 ft) from the Pikes Peak toll road (Carpenter 1996a, 1996b). The petitioner contends that the site is threatened by recreational impacts. Although the toll road itself is heavily used, the B. lineare site is located along the lower half of the road and receives little recreational use (Steve Tapia, Pike and San Isabel National Forest, pers. comm. 1999). A possible threat to this species could result from maintenance of an adjacent power line, although permission from the Forest Service would have to be obtained prior to commencing any maintenance work (S. Tapia, pers. comm. 1999). This site is not affected by erosion or livestock grazing (S. Tapia, pers. comm. 1999; Carpenter 1996a). Threats to the lower elevation B. lineare site at Pikes Peak, containing far fewer plants, are unknown. However, this site may be subject to disturbance due to its proximity to the Pikes Peak toll road. Although habitat for B. lineare at Pikes Peak does not appear to be imminently threatened, the limited amount of occupied habitat makes this species potentially vulnerable to naturally occurring events or human activities.

The Glacier National Park site is located along the Babb-Many Glacier road (P. Zika, pers. comm. 1999). This site is vulnerable to road maintenance activities and to naturally occurring events.

We have reviewed the petition, literature cited in the petition, other available literature and data, and consulted with biologists familiar with Botrychium lineare. After reviewing the best scientific and commercial information available, the Service finds that the petition presents substantial information that listing B. lineare may be warranted. This species is currently known from only 5 sites, with a total of fewer than 100 individuals. The small population size, small amount of occupied habitat, and proximity of all the known sites to human disturbance suggest that this species may be threatened by a variety of factors.

When we make a positive 90-day finding, we are required to promptly commence a review of the status of the species. In the case of Botrychium lineare, we are requesting information on the status of the species throughout its range in the United States and Canada. We are soliciting information primarily on distribution, population status and trends, and documented threats. Section 4(b)(3)(B) of the Act requires that we make a finding within 1 year from the date the petition was received as to whether listing B. lineare as threatened or endangered is warranted (12-month finding).

The petitioner also requested that critical habitat be designated for Botrychium lineare. If the 12-month finding indicates that the petitioned action to list B. lineare as endangered or threatened is warranted, we would address the designation of critical habitat in a proposed rule to list the species.

References Cited

Carpenter, A. 1996a. Monitoring plan for the rare fern, Botrychium lineare, on the Pikes Peak Ranger District, Pike-San Isabel National Forest, El Paso County, Colorado. The Nature Conservancy, Boulder, Colorado, dated May 14, 1996. 6 pages.

Carpenter, A. 1996b. Annual report of monitoring of the rare fern, Botrychium lineare, on the Pikes Peak Ranger District, Pike-San Isabel National Forest, El Paso County, Colorado. The Nature Conservancy, Boulder, Colorado, dated August 27, 1996. 3 pages + figures.

Hustafa, J. 1999. Biological assessment for sensitive plants, Lostine Recreation Facilities Project, Eagle Cap Ranger District, Wallowa-Whitman National Forest.

Oregon Natural Heritage Program. 1999. Element occurrence records for Botrychium lineare.

Root, P. 1999. A survey of possible additional populations of the narrow leaf moonwort on Pikes Peak (order number 43-82BH-8-0096). Prepared for the Pikes Peak Ranger District, U.S. Forest Service. 3 pages + figures.

Wagner, W.H. and F.S. Wagner. 1994. Another widely disjunct, rare and local North American moonwort (Ophioglossaceae: Botrychium subg. Botrychium). American Fern Journal 84(1):5-10.

Zika, P.F., R. Brainerd and B. Newhouse. 1995. Grapeferns and moonworts (Botrychium, Ophioglossaceae) in the Columbia Basin. A report submitted to the Eastside Ecosystem Management Project, U.S. Forest Service, Walla Walla, Washington. Pages 1, 20, and 26.

Author

The author of this document is Edna Rey-Vizgirdas, U.S. Fish and Wildlife Service, Snake River Basin Office (see ADDRESSES section).

Authority: The authority for this action is the Endangered Species Act, as amended (16 U.S.C. 1531 et seq.).

Dated: April 12, 2000.
Jamie Rappaport Clark,
Director, U.S. Fish and Wildlife Service.

[FR Doc. 00-11684 Filed 5-9-00; 8:45 am]

BILLING CODE 4310-55-P